DEPARTMENT OF ENERGY

Federal Energy Regulatory Commission

[Docket No. PF08-18-000]

Weaver's Cove Energy, LLC.; Notice of Intent To Prepare an Environmental Impact Statement for the Proposed Weaver's Cove Offshore Berth Project, Request for Comments on Environmental Issues, and Notice of Public Meetings

June 4, 2008.

The Federal Energy Regulatory Commission (FERC or Commission) and the U.S. Department of Homeland Security, U.S. Coast Guard (Coast Guard) are in the process of evaluating the Offshore Berth Project planned by Weaver's Cove Energy, LLC (Weaver's Cove). The project would amend the Weaver's Cove LNG Terminal, which was authorized by the FERC on July 15, 2005, and consists of a liquefied natural gas (LNG) import terminal in Fall River, Massachusetts, in Docket No. CP04-36-000. The planned project amendment involves the construction and operation of an offshore LNG import berth (Offshore Berth) in Mount Hope Bay in Massachusetts waters and buried submarine LNG transfer pipelines to the authorized Weaver's Cove LNG Terminal.

As part of this evaluation, the FERC staff will prepare an environmental impact statement (EIS) that will address the environmental impacts of the project. This notice announces the opening of the scoping process the Commission will use to gather input from the public and interested agencies on the proposed project. Your input will help determine which issues need to be evaluated in the EIS. Please note that the scoping period will close on July 7, 2008.

Comments regarding this project may be submitted in written form or verbally. Further details on how to submit written comments are provided in the Public Participation section of this notice. In lieu of or in addition to sending written comments, we invite you to attend the public scoping meetings scheduled as follows:

Date and Time | Location
Tuesday, June 24, 2008, 7:00 p.m. to 9:00 p.m. (EST) | Mount Hope High School Auditorium, 199 Chestnut Street, Bristol, RI 02809.
Wednesday, June 25, 2008, 7:00 p.m. to 9:00 p.m. (EST) | Venus De Milo Restaurant, 75 Grand Army of the Republic Hwy, (Route 6), Swansea, MA 02777.

The Commission will use the EIS in its decision-making process to determine whether or not to authorize the project. The Coast Guard will assess the safety and security of the Offshore Berth Project and issue a Letter of Recommendation. As described above, the FERC staff and the Coast Guard will hold public scoping meetings to allow the public to provide input on these assessments. This notice explains the scoping process that will be used to gather information on the project from public and interested agencies, and summarizes the process that the Coast Guard will use. Your input will help identify the issues that need to be evaluated in the EIS and in the Coast Guard's safety and security assessment.

The FERC will be the lead federal agency for the preparation of the EIS. The Coast Guard will serve as a cooperating agency during preparation of the EIS. The document will satisfy the requirements of the National Environmental Policy Act of 1969 (NEPA). In addition, with this notice, we ¹ are asking other federal, state, and local agencies with jurisdiction and/or special expertise with respect to environmental issues to cooperate with us in the preparation of the EIS. These agencies may choose to participate once they have evaluated Weaver's Cove's proposal relative to their responsibilities. Agencies that would like to request cooperating status should follow the instructions for filing comments described later in this notice. Consultations have already been initiated with the U.S. Army Corps of Engineers, and other state and/or federal agencies. Consultations with these and other agencies will continue throughout the project review and permitting period.

¹ “We,” “us,” and “our” refer to the environmental staff of the Commission's Office of Energy Projects.

The Massachusetts Energy Facilities Siting Board (MEFSB) is an independent board that licenses major energy facilities in Massachusetts and is charged with ensuring a reliable energy supply for the Commonwealth with a minimum impact on the environment at the lowest possible cost. The MEFSB has no authority over the siting of interstate natural gas facilities; however, it represents the citizens of Massachusetts before the FERC on cases involving the construction of applicable energy infrastructure in Massachusetts. The public scoping meeting in Swansea, Massachusetts will be a joint scoping meeting with participation by the MEFSB.

This notice is being sent to federal, state, and local government agencies; elected officials; affected landowners (landowners within a half-mile radius of the project facilities); environmental and public interest groups; Native American tribes; commentors and other interested parties; and local libraries and newspapers. We encourage government representatives to notify their constituents of this planned project and encourage them to comment on their areas of concern.

Summary of the Proposed Project

Weaver's Cove proposes to construct and operate an offshore LNG offloading berth and cryogenic LNG transfer pipelines that will transport LNG from tankers with cargo capacities of up to 155,000 cubic meters to an onshore LNG storage tank at the authorized Weaver's Cove LNG Terminal site in Fall River, Massachusetts. More specifically, Weaver's Cove's Offshore Berth Project would consist of:

• An offshore berth jetty approximately 1,200 feet in length including a central platform measuring 250 feet by 125 feet, four mooring dolphins, three breasting dolphins, supporting fender panels, and an unloading platform;

• Three or four 16-inch-diameter unloading arms;

• Two 4.25-mile-long, 24-inch-diameter cryogenic LNG transfer pipelines;

• A vapor generation system located on the jetty consisting of a 20-inch-diameter line connected to a 16-inch-diameter marine arm;

• A new 1,100-yard-long private vessel channel from the federal navigation channel to the Offshore Berth, and a new tanker turning basin totaling 40 acres;

• Ancillary LNG transfer equipment, power substation, emergency generator, uninterruptable power supply, a control room and operating staff facilities; and

• Passive and active security systems to deter and detect attempts at unauthorized access.

The Offshore Berth would provide an alternative to the Weaver's Cove LNG Terminal-side berth which comprises part of the authorized project that allows for marine access to the Weaver's Cove LNG Terminal. No other aspects of the authorized project (e.g., vessel transit route, LNG terminal, or natural gas pipeline laterals) evaluated under Docket No. CP04-36-000 have been proposed for amendment by Weaver's Cove. Only minor changes to authorized piping and layout, instruments, and the capacity of the boil-off handling system resulting from the proposed amendment would occur at the authorized terminal; therefore, aspects of the authorized project will not be reassessed for the purpose of this amendment. The evaluation of the proposed amendment will focus on the Offshore Berth and buried submarine LNG transfer pipelines.

The Offshore Berth, with a total footprint of approximately 1.0 acre, would be located in the waters of Mount Hope Bay, approximately 1 mile southwest of Brayton Point in Somerset, Massachusetts, and would be approximately 1 mile from the nearest shoreline. The project also includes two 4.25-mile-long cryogenic LNG transfer pipelines, extending along the Taunton River from the Offshore Berth to the previously authorized LNG terminal in Fall River, Massachusetts.

Weaver's Cove has proposed this amendment to address ongoing environmental and safety concerns raised by various stakeholders in regard to the authorized Weaver's Cove LNG Terminal-side berth location. Weaver's Cove states the Offshore Berth Project is a viable alternative to its terminal-side berthing facility because it would alleviate navigation concerns of LNG vessels navigating between the old and new Brightman Street Bridges.

A location map depicting Weaver's Cove's proposed facilities, including its preferred buried submarine transfer line route, is attached to this notice as appendix 1.²

² The appendices referenced in this notice are not being printed in the Federal Register . Copies are available on the Commission's Web site (http://www.ferc.gov) at the “eLibrary” link or from the Commission's Public Reference Room or call (202) 502-8371. For instructions on connecting to e-Library refer to the end of this notice. Copies of the appendices were sent to all those receiving this notice in the mail.

The EIS Process

The NEPA requires the Commission to take into account the environmental impacts that could result from an action when it considers whether or not an LNG import terminal or interstate natural gas pipeline facilities should be approved. The FERC will use the EIS to consider the environmental impacts that could result if it issues project authorizations to Weaver's Cove under sections 3 and 7 of the Natural Gas Act. The Coast Guard will use the EIS to determine if a Letter of Recommendation should be issued, with or without conditions, under 33 CFR Section 127.009. The NEPA also requires us to discover and address concerns the public may have about proposals. This process is referred to as “scoping.” The main goal of the scoping process is to focus the analysis in the EIS on the important environmental issues and reasonable alternatives. With this notice, the Commission staff is requesting public comments on the scope of the issues to be addressed in the EIS. All comments received will be considered during preparation of the EIS.

Although no formal application has been filed, we have already initiated our NEPA review under the Commission's pre-filing process. The purpose of the pre-filing process is to encourage early involvement of interested stakeholders and to identify and resolve issues before an application is filed with the FERC. In addition, the Coast Guard, which would be responsible for reviewing the safety and security aspects of the planned project and regulating safety and security if the project is approved, has initiated its review of the project as well.

As part of our pre-filing process review, we have begun to contact some federal and state agencies to discuss their involvement in the scoping process and the preparation of the EIS. In addition, representatives from the FERC participated in public open houses sponsored by Weaver's Cove in the project area on May 19-20, 2008, to explain the environmental review process to interested stakeholders. During June 2008, we will conduct interagency scoping meetings in the project area to solicit comments and concerns about the project from jurisdictional agencies. By this notice, we are formally announcing our preparation of the EIS and requesting additional agency and public comments to help us focus the analysis in the EIS on the potentially significant environmental issues related to the proposed action.

Our independent analysis of the issues will be included in a draft EIS. The draft EIS will be mailed to federal, state, and local government agencies; elected officials; affected landowners; environmental and public interest groups; Indian tribes and regional Native American organizations; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this notice.

Coast Guard Letter of Recommendation Process

The Coast Guard is responsible for matters related to navigation safety, vessel engineering and safety standards, and all matters pertaining to the safety of facilities or equipment located in or adjacent to navigable waters up to the last valve immediately before the receiving tanks. The Coast Guard also has authority for LNG facility security plan review, approval, and compliance verification as provided in Title 33 of the Code of Federal Regulations, (CFR) Part 105, and recommendations for siting as it pertains to the management of vessel traffic in and around the LNG facility.

As required by 33 CFR 127.007, Weaver's Cove submitted a Letter of Intent on April 18, 2008 to the Coast Guard Captain of the Port, Southeastern New England, proposing to construct the Offshore Berth in Mount Hope Bay to receive LNG deliveries from tankers transiting portions of Narragansett Bay and Mount Hope Bay. Upon receipt of a Letter of Intent from an owner or operator intending to build a new LNG facility (such as the letter submitted by Weaver's Cove on April 18, 2008), the Coast Guard Captain of the Port conducts an analysis based on:

• The physical location and layout of the facility and its berthing and mooring arrangements;

• The LNG vessels' characteristics and the frequency of LNG shipments to the facility;

• Commercial, industrial, environmentally sensitive, and residential areas in and adjacent to the waterway used by the LNG vessels en route to the facility;

• Density and character of the marine traffic on the waterway;

• Bridges or other man-made obstructions in the waterway;

• Depth of water;

• Tidal range;

• Natural hazards, including rocks and sandbars;

• Underwater pipelines and cables; and

• Distance of berthed LNG vessels from the channel, and the width of the channel.

This analysis results in a Letter of Recommendation issued to the owner or operator and to the state and local governments having jurisdiction, addressing the suitability of the waterway to accommodate LNG vessels, as prescribed by 33 CFR 127.009.

In addition, the Coast Guard will review and approve the facility's operations manual and emergency response plan (33 CFR 127.019), as well as the facility's security plan (33 CFR 105.410). The Coast Guard will also provide input to other federal, state, and local government agencies reviewing the project.

In order to complete a thorough analysis and fulfill the regulatory mandates cited above, Weaver's Cove will be conducting a Waterway Suitability Assessment (WSA), a formal risk assessment evaluating the various safety and security aspects associated with the Offshore Berth Project. Comments received during the public comment period will be considered as input in the risk assessment process. The results of the WSA will be submitted to the Coast Guard to be used in determining whether the waterway is suitable for LNG traffic.

Currently Identified Environmental Issues

We have already identified issues that we think deserve attention based on a preliminary review of the project area and information on the planned facilities provided by Weaver's Cove. This preliminary list of issues, which is presented below, may be revised based on your comments and our continuing analyses.

• Impact of the Offshore Berth and LNG ship traffic on other Mount Hope Bay users, including fishing and recreational boaters.

• Safety issues relating to LNG ship traffic at the Offshore Berth and cryogenic LNG transfer pipelines.

• Potential impacts on residents in the project area, including safety issues at the offshore berth, noise, air quality, and visual resources.

• Project impacts on marine resources and their associated habitats, including dredging impacts.

• Project impacts on cultural resources.

Public Participation

You can make a difference by providing us with your specific comments or concerns about the planned Offshore Berth Project. Your comments should focus on the potential environmental effects, reasonable alternatives (including alternative facility sites and pipeline routes), and measures to avoid or lessen environmental impacts. The more specific your comments, the more useful they will be. To ensure that your comments are timely and properly recorded, please mail your comments so that they will be received in Washington, DC on or before July 7, 2008, and carefully follow these instructions:

• Send an original and two copies of your letter to: Kimberly D. Bose, Secretary, Federal Energy Regulatory Commission, 888 First St., NE., Room 1A, Washington, DC 20426.

• Label one copy of your comments for the attention of Gas Branch 1, DG2E.

• Reference Docket No. PF08-18-000 on the original and both copies.

• Send an additional copy of your letter to:

Selma H. Urman, Esq., Massachusetts Energy Facilities Siting Board, One South Station, Boston, MA 02110.

Your letter to the MEFSB should also reference Docket No. PF08-18-000.

The public scoping meetings (date, time, and location listed above) are designed to provide another opportunity to offer comments on the planned project. Interested groups and individuals are encouraged to attend the meetings and to present comments on the environmental issues that they believe should be addressed in the EIS. A transcript of the meetings will be generated so that your comments will be accurately recorded. In addition, we have asked Weaver's Cove to be available with project location maps to answer project-related questions a half-hour before and after the meetings.

The Commission encourages electronic filing of comments. See Title 18 of the CFR, Part 385.2001(a)(1)(iii) and the instructions on the Commission's internet Web site at http://www.ferc.gov under the link to “Documents and Filings” and “eFiling.” eFiling is a file attachment process and requires that you prepare your submission in the same manner as you would if filing on paper, and save it to a file on your computer's hard drive. New eFiling users must first create an account by clicking on “Sign up” or “eRegister.” You will be asked to select the type of filing you are making. This filing is considered a “Comment on Filing.” In addition, there is a “Quick Comment” option available, which is an easy method for interested persons to submit text-only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s). We will include all comments that we receive within a reasonable time frame in our environmental analysis of the project.

Once Weaver's Cove formally files its application with the Commission, you may want to become an official party to the proceeding known as an “intervenor.” Intervenors play a more formal role in the process and are able to file briefs, appear at hearings, and be heard by the courts if they choose to appeal the Commission's final decision. An intervenor formally participates in a Commission proceeding by filing a request to intervene. Instructions for becoming an intervenor are included in the User's Guide under the “e-filing” link on the Commission's Web site. Please note that you may not request intervenor status at this time. You must wait until a formal application is filed with the Commission. Also, you do not need intervenor status to have your environmental comments considered.

Environmental Mailing List

If you wish to remain on our environmental mailing list and receive future mailings, please return the attached Mailing List Form (appendix 2 of this notice). Also, indicate on the form your preference for receiving a paper version in lieu of an electronic version of the EIS on CD-ROM. If you do not return this form, we will remove your name from the Commission's environmental mailing list.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF08-18) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Weaver's Cove has established an Internet Web site for this project at http://www.weaverscove.com/. The Web site includes a project overview, status, potential impacts and mitigation, and answers to frequently-asked questions.

Kimberly D. Bose,
Secretary.

[FR Doc. E8-13025 Filed 6-10-08; 8:45 am]

BILLING CODE 6717-01-P